DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: February 24, 2016.
Roy E. Wright,
Deputy Associate Administrator for Insurance and Mitigation, Department of Homeland Security, Federal Emergency Management Agency.

State and county | Location and case No. | Chief executive officer of community | Community map repository | Effective date of modification | Community No.
Alabama:
Jefferson. (FEMA Docket No.: B-1545) | City of Birmingham (15-04-7923X) | The Honorable William A. Bell, Sr., Mayor, City of Birmingham, 710 North 20th Street, Birmingham, AL 35203 | Planning and Engineering Office, 710 North 20th Street, Birmingham, AL 35203 | Dec. 31, 2015 | 010116
Jefferson. (FEMA Docket No.: B-1545) | City of Mountain Brook (15-04-7923X) | The Honorable Lawrence T. Oden, City of Mountain Brook, P.O. Box 130009, Mountain Brook, AL 35213 | City Hall, 3928 Montclair Road, Mountain Brook, AL 35213 | Dec. 31, 2015 | 010128
Jefferson. (FEMA Docket No.: B-1538) | City of Leeds (15-04-4032P) | The Honorable David Miller, Mayor, City of Leeds, 1040 Park Drive, Leeds, AL 35094 | Inspections Department, 1040 Park Drive, Leeds, AL 35094 | Nov. 30, 2015 | 010125
St. Clair. (FEMA Docket No.: B-1538) | City of Moody (15-04-4032P) | The Honorable Joe Lee, Mayor, City of Moody, 670 Park Avenue, Moody, AL 35004 | Inspection and Public Works Department, 670 Park Avenue, Moody, AL 35004 | Nov. 30, 2015 | 010187
Shelby. (FEMA Docket No.: B-1545) | Unincorporated areas of Shelby County (15-04-4263P) | The Honorable Rick Shepherd, Chairman, Shelby County Board of Commissioners, 200 West College Street, Columbiana, AL 35051 | Shelby County Engineer's Office, 506 Highway 70, Columbiana, AL 35051 | Dec. 14, 2015 | 010191
Tuscaloosa. (FEMA Docket No.: B-1554) | City of Tuscaloosa (15-04-4630P) | The Honorable Walter Maddox, Mayor, City of Tuscaloosa, P.O. Box 2089, Tuscaloosa, AL 35401 | Engineering Department, 2201 University Boulevard, Tuscaloosa, AL 35401 | Oct. 21, 2015 | 010203
Colorado:
Arapahoe. (FEMA Docket No.: B-1545) | City of Centennial (15-08-0299P) | The Honorable Cathy Noon, Mayor, City of Centennial, 13133 East Arapahoe Road, Centennial, CO 80112 | Southeast Metro Stormwater Authority, 7437 South Fairplay Street, Centennial, CO 80112 | Dec. 11, 2015 | 080315
Arapahoe. (FEMA Docket No.: B-1545) | City of Centennial (15-08-0563P) | The Honorable Cathy Noon, Mayor, City of Centennial, 13133 East Arapahoe Road, Centennial, CO 80112 | Southeast Metro Stormwater Authority, 7437 South Fairplay Street, Centennial, CO 80112 | Dec. 28, 2015 | 080315
Arapahoe. (FEMA Docket No.: B-1545) | Unincorporated areas of Arapahoe County (15-08-0299P) | The Honorable Nancy N. Sharpe, Chair, Arapahoe County Board of Commissioners, 5334 South Prince Street, Littleton, CO 80166 | Arapahoe County Public Works Department, 6924 South Lima Street, Centennial, CO 80112 | Dec. 11, 2015 | 080011
Denver. (FEMA Docket No.: B-1545) | City and County of Denver (15-08-0521P) | The Honorable Michael Hancock, Mayor, City and County of Denver, 1437 Bannock Street, Suite 350, Denver, CO 80202 | Department of Public Works, 201 West Colfax Avenue, Denver, CO 80202 | Dec. 28, 2015 | 080046
Douglas. (FEMA Docket No.: B-1538) | Town of Castle Rock (15-08-0069P) | The Honorable Paul Donahue, Mayor, Town of Castle Rock, 100 North Wilcox Street, Castle Rock, CO 80104 | Utilities Department, 175 Kellogg Road, Castle Rock, CO 80109 | Dec. 4, 2015 | 080050
Douglas. (FEMA Docket No.: B-1538) | Unincorporated areas of Douglas County (15-08-0069P) | The Honorable Jill Repella, Chair, Douglas County Board of Commissioners, 100 3rd Street, Castle Rock, CO 80104 | Douglas County Public Works Department, 100 3rd Street, Castle Rock, CO 80104 | Dec. 4, 2015 | 080049
Adams and Jefferson. (FEMA Docket No.: B-1545) | City of Westminster (15-08-0180P) | The Honorable Herb Atchison, Mayor, City of Westminster, 4800 West 92nd Avenue, Westminster, CO 80031 | City Hall, 4800 West 92nd Avenue, Westminster, CO 80031 | Nov. 27, 2015 | 080008
Broomfield. (FEMA Docket No.: B-1545) | City and County of Broomfield (15-08-0180P) | The Honorable Randy Ahrens, Mayor, City and County of Broomfield, 1 DesCombes Drive, Broomfield, CO 80020 | Engineering Department, 1 DesCombes Drive, Broomfield, CO 80020 | Nov. 27, 2015 | 085073
Jefferson. (FEMA Docket No.: B-1545) | Unincorporated areas of Jefferson County (15-08-0180P) | The Honorable Casey Tighe, Chairman, Jefferson County Board of Commissioners, 100 Jefferson County Parkway, Golden, CO 80419 | Jefferson County Department of Planning and Zoning, 100 Jefferson County Parkway, Golden, CO 80419 | Nov. 27, 2015 | 080087
Jefferson. (FEMA Docket No.: B-1545) | City of Lakewood, (14-08-1263P) | The Honorable Bob Murphy, Mayor, City of Lakewood, Lakewood Civic Center South, 480 South Allison Parkway, Lakewood, CO 80226 | Public Works Department, 480 South Allison Parkway, Lakewood, CO 80226 | Dec. 18, 2015 | 085075
Jefferson. (FEMA Docket No.: B-1545) | Unincorporated areas of Jefferson County (14-08-1263P) | The Honorable Casey Tighe, Chairman, Jefferson County Board of Commissioners, 100 Jefferson County Parkway, Golden, CO 80419 | Jefferson County Department of Planning and Zoning, 100 Jefferson County Parkway, Golden, CO 80419 | Dec. 18, 2015 | 080087
Weld. (FEMA Docket No.: B-1538) | City of Severance (15-08-0837P) | The Honorable Don Brookshire, Mayor, City of Severance, P.O. Box 339, Severance, CO 80546 | Town Hall, 231 West 4th Avenue, Severance, CO 80546 | Nov. 27, 2015 | 080317
Connecticut: Fairfield. (FEMA Docket No.: B-1545) | City of Norwalk (15-01-1793P) | The Honorable Harry W. Rilling, Mayor, City of Norwalk, 125 East Avenue, Norwalk, CT 06856 | Planning and Zoning Department, 125 East Avenue, Norwalk, CT 06856 | Dec. 30, 2015 | 090012
Florida:
Charlotte. (FEMA Docket No.: B-1545) | Unincorporated areas of Charlotte County (15-04-4023P) | The Honorable Bill Truex, Chairman, Charlotte County Board of Commissioners, 18500 Murdock Circle, Suite 536, Port Charlotte, FL 33948 | Charlotte County Department of Community Development, 18500 Murdock Circle, Port Charlotte, FL 33948 | Dec. 31, 2015 | 120061
Charlotte. (FEMA Docket No.: B-1538) | Unincorporated areas of Charlotte County (15-04-6067P) | The Honorable Bill Truex, Chairman, Charlotte County Board of Commissioners, 18500 Murdock Circle, Suite 536, Port Charlotte, FL 33948 | Charlotte County Community Development Department, 18500 Murdock Circle, Port Charlotte, FL 33948 | Dec. 1, 2015 | 120061
Lee. (FEMA Docket No.: B-1545) | Unincorporated areas of Lee County (15-04-4830P) | The Honorable Brian Hamman, Chairman, Lee County Board of Commissioners, P.O. Box 398, Fort Myers, FL 33902 | Lee County Administration Office, 1700 Monroe Street, 2nd Floor, Fort Myers, FL 33902 | Dec. 14, 2015 | 125124
Miami-Dade. (FEMA Docket No.: B-1545) | City of Sunny Isles Beach (15-04-7479X) | The Honorable George “Bud” Scholl, Mayor, City of Sunny Isles Beach, 18070 Collins Avenue, Sunny Isles Beach, FL 33160 | Building Department, 18070 Collins Ave, 3rd Floor, Sunny Isles Beach, FL 33160 | Jan. 4, 2016 | 120688
Orange. (FEMA Docket No.: B-1545) | Unincorporated areas of Orange County (15-04-2752P) | The Honorable Teresa Jacobs, Mayor, Orange County, 201 South Rosalind Avenue, 5th Floor, Orlando, FL 32801 | Orange County Public Works Department, 4200 South John Young Parkway, Orlando, FL. 32839 | Dec. 31, 2015 | 120179
Orange. (FEMA Docket No.: B-1545) | Unincorporated areas of Orange County (15-04-4919P) | The Honorable Teresa Jacobs, Mayor, Orange County, 201 South Rosalind Avenue, 5th Floor, Orlando, FL 32801 | Orange County Public Works Department, 4200 South John Young Parkway, Orlando, FL. 32839 | Dec. 24, 2015 | 120179
St. Johns. (FEMA Docket No.: B-1545) | Unincorporated areas of St. Johns County (15-04-5124P) | The Honorable James K. Johns, Chairman, St. Johns County Board of Commissioners, District 1, 500 San Sebastian View, St. Augustine, FL 32084 | St. Johns County Growth Management Department, 4040 Lewis Speedway, St. Augustine, FL 32084 | Dec. 14, 2015 | 125147
Walton. (FEMA Docket No.: B-1545) | Unincorporated areas of Walton County (15-04-4766P) | The Honorable Bill Imfeld, Chairman, Walton County Board of Commissioners, 6570 U.S. Highway 90 West, DeFuniak Springs, FL 32433 | Walton County Planning and Development Services Department, 31 Coastal Centre Boulevard, Santa Rosa Beach, FL 32459 | Dec. 26, 2015 | 120317
Massachusetts: Essex. (FEMA Docket No.: B-1545) | Town of Rockport (15-01-1271P) | The Honorable Erin M. Battistelli, Chair, Town of Rockport Board of Selectmen, 34 Broadway, Rockport, MA 01966 | Building Inspections Division, 26 Broadway, Rockport, MA 01966 | Dec. 14, 2015 | 250100
Mississippi: Lafayette. (FEMA Docket No.: B-1545) | City of Oxford (15-04-8440P) | The Honorable George Patterson, Mayor, City of Oxford, 107 Courthouse Square, Oxford, MS 38655 | City Hall, 107 Courthouse Square, Oxford, MS 38655 | Jan. 4, 2016 | 280094
New Mexico: Bernalillo. (FEMA Docket No.: B-1545) | Unincorporated areas of Bernalillo County (14-06-4933P) | The Honorable Maggie Hart Stebbins, Chair, Bernalillo County Board of Commissioners, 1 Civic Plaza Northwest, Albuquerque, NM 87102 | Bernalillo County Public Works Division, 2400 Broadway Boulevard Southeast, Albuquerque, NM 87102 | Nov. 23, 2015 | 350001
Pennsylvania:
Blair. (FEMA Docket No.: B-1538) | City of Altoona (14-03-3324P) | The Honorable Matt Pacifico, Mayor, City of Altoona, 1301 12th Street, Suite 100, Altoona, PA 16601 | Public Works Department, 1301 12th Street, Suite 300, Altoona, PA 16601 | Nov. 27, 2015 | 420159
Blair. (FEMA Docket No.: B-1538) | Township of Logan (14-03-3324P) | Mr. James A. Patterson, Chairman, Township of Logan Board of Supervisors, 100 Chief Logan Circle, Altoona, PA 16602 | Department of Zoning, 100 Chief Logan Circle, Altoona, PA 16602 | Nov. 27, 2015 | 421391
Texas:
Bexar. (FEMA Docket No.: B-1545) | City of San Antonio (15-06-1484P) | The Honorable Ivy R. Taylor, Mayor, City of San Antonio, P.O. Box 839966, San Antonio, TX 78283 | Transportation and Capital Improvements Department, Storm Water Division, 1901 South Alamo Street, 2nd Floor, San Antonio, TX 78204 | Dec. 3, 2015 | 480045
Collin. (FEMA Docket No.: B-1538) | City of Frisco (15-06-0486P) | The Honorable Maher Maso, Mayor, City of Frisco, 6101 Frisco Square Boulevard, Frisco, TX 75034 | Engineering Services Department, 6101 Frisco Square Boulevard, Frisco, TX 75034 | Dec. 7, 2015 | 480134
Collin. (FEMA Docket No.: B-1545) | City of Murphy (14-06-4329P) | The Honorable Eric Barna, Mayor, City of Murphy, 206 North Murphy Road, Murphy, TX 75094 | Department of Public Works, 206 North Murphy Road, Murphy, TX 75094 | Dec. 11, 2015 | 480137
Dallas. (FEMA Docket No.: B-1545) | Town of Addison (15-06-1036P) | The Honorable Todd Meier, Mayor, Town of Addison, 5300 Belt Line Road, Dallas, TX 75254 | Town Service Center, 16801 Westgrove Drive, Dallas, TX 75001 | Dec. 28, 2015 | 481089
Dallas. (FEMA Docket No.: B-1538) | City of Dallas (14-06-3370P) | The Honorable Michael S. Rawlings, Mayor, City of Dallas, 1500 Marilla Street, Dallas, TX 75201 | Department of Public Works, 320 East Jefferson Boulevard, Dallas, TX 75203 | Nov. 30, 2015 | 480171
Ellis. (FEMA Docket No.: B-1538) | City of Waxahachie (15-06-0140P) | The Honorable Kevin Strength, Mayor, City of Waxahachie, 401 South Rogers Street, Waxahachie, TX 75165 | City Hall, 401 South Rogers Street, Waxahachie, TX 75165 | Dec. 2, 2015 | 480211
Harris. (FEMA Docket No.: B-1538) | Unincorporated areas of Harris County (15-06-1550P) | The Honorable Ed M. Emmett, Harris County Judge, 1001 Preston Street, Suite 911, Houston, TX 77002 | Harris County Permit Office, 10555 Northwest Freeway, Suite 120, Houston, TX 77092 | Dec. 1, 2015 | 480287
Hidalgo. (FEMA Docket No.: B-1545) | Unincorporated areas of Hidalgo County (15-06-2601P) | The Honorable Ramon Garcia, Hidalgo County Judge, 100 East Cano Street, 2nd Floor, Edinburg, TX 78542 | Hidalgo County Drainage District, 902 North Doolittle Road, Edinburg, TX 78542 | Dec. 24, 2015 | 480334
Utah: Uintah. (FEMA Docket No.: B-1545) | Unincorporated areas of Uintah County (15-08-0414P) | The Honorable Mike McKee, Chairman, Uintah County Board of Commissioners, 152 East 100 North, Vernal, UT 84078 | Uintah County Community Development Department, 152 East 100 North, Vernal, UT 84078 | Dec. 16, 2015 | 490147

[FR Doc. 2016-05990 Filed 3-16-16; 8:45 am]

BILLING CODE 9110-12-P